DEPARTMENT OF VETERANS AFFAIRS

Joint Biomedical Laboratory and Clinical Science (BL/CS) Research and Development Services Scientific Merit Review Board, Federal Register Notice of Meeting

The Department of Veterans Affairs (VA) gives notice under the Federal Advisory Committee Act, 5 U.S.C. 10, that a meeting of the Joint Biomedical Laboratory Research and Development (BLR&D) and Clinical Science Research and Development (CSR&D) Services Scientific Merit Review Board will be held July 8, 2025, from 3-5 p.m. EST, via Microsoft Teams. The meeting will be partially closed to the public, with an open portion from 3-3:30 p.m. The closed portion, from 3:30-5 p.m., will be used for scientific review and discussion, examination of, and reference to the research applications. Discussions will involve staff and consultant critiques of research proposals. Discussions will also cover the scientific merit of each proposal and the qualifications of the personnel conducting the studies, the disclosure of which would constitute a clearly unwarranted invasion of personal privacy. Additionally, premature disclosure of research information could significantly obstruct implementation of proposed agency action regarding the research proposals. As provided by Public Law 92-463 subsection 10(d), and amended by Public Law 94-409, closing the committee meeting is in accordance with Title 5 U.S.C. 552b(c)(6) and (9)(B).

The objective of the Board is to provide for the fair and equitable selection of the most meritorious research projects for support by VA research funds and to offer advice for research program officials on program priorities and policies. The ultimate objective of the Board is to ensure the high quality and mission relevance of VA's legislatively mandated BL/CS Research and Development programs.

Board members will advise the Directors of the BL/CS Research Services, as well as the Acting Chief Research and Development Officer, on the scientific and technical merit, mission relevance, and protection of human subjects of the proposals submitted to BL/CS. The Board does not consider grants, contracts, or other forms of extramural research.

Members of the public may attend the open portion of the meeting from 3-3:30 p.m. EST, via Microsoft Teams (in listen-only mode, as the time limited agenda does not allow for public comment or presentations). To attend the open portion of the meeting, the public may dial the Microsoft Teams phone number (1-872-701-0185) and enter the meeting access code (513 797 246#).

Written comments from members of the public should be sent to Michael R. Burgio, Ph.D., Designated Federal Officer, Advisory Committee Management Office, 811 Vermont Avenue NW, Room 4342A, Washington, DC 20006, or to Michael.Burgio@va.gov, at least five days before the meeting. The written public comments will be shared with the Board members. The public may not attend the closed portion of the meeting, as disclosure of research information could significantly obstruct implementation of proposed agency action regarding the research proposals (per Pub. L. 92-463 subsection 10(d) and amended by Pub. L. 94-409, closing the meeting is in accordance with Title 5 U.S.C. 552b(c)(6) and (9)(B).

Dated: June 5, 2025.
LaTonya L. Small,
Federal Advisory Committee Management Officer.

[FR Doc. 2025-10468 Filed 6-9-25; 8:45 am]

BILLING CODE 8320-01-P